DEPARTMENT OF COMMERCE

National Oceanic and Atmospheric Administration

[RTID 0648-XD753]

New England Fishery Management Council; Public Meeting

AGENCY: National Marine Fisheries Service (NMFS), National Oceanic and Atmospheric Administration (NOAA), Commerce.

ACTION: Notice of a public meeting.

SUMMARY: The New England Fishery Management Council's is convening its Scientific and Statistical Committee (SSC) sub-panel to consider actions affecting New England fisheries in the exclusive economic zone (EEZ). Recommendations from this group will be brought to the full Council for formal consideration and action, if appropriate.

DATES: This webinar will be held on Wednesday, March 27, 2024, at 1 p.m.

ADDRESSES:

Webinar registration information: https://attendee.gotowebinar.com/register/6027689206954658393. Call in information: +1 (415) 930-5321, Access Code: 210-165-122.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

A Scientific and Statistical Committee sub-panel will meet to review the methods of a management strategy evaluation (MSE) for Atlantic cod and give input on possible scenarios to simulate through the MSE. This MSE aims to support the Council's ongoing decision-making process for how to manage Atlantic cod given the recent review of cod stock structure that resulted in shifting from two biological units (Gulf of Maine and Georges Bank) to five units. This MSE aims to quantify the relative performance of candidate spatial management procedures. The sub-panel will formulate suggestions for the MSE team to consider and may reconvene later in 2024 to review progress. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: March 6, 2024.
Rey Israel Marquez,
Acting Deputy Director, Office of Sustainable Fisheries, National Marine Fisheries Service.

[FR Doc. 2024-05460 Filed 3-12-24; 8:45 am]

BILLING CODE 3510-22-P